NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on September 10-13, 2003, 11545 Rockville Pike, Rockville, Maryland. The date of this meeting was previously published in the Federal Register on Monday, November 20, 2002 (67 FR 70094).

Wednesday, September 10, 2003

[The meeting on Wednesday, September 10, 2003 will be closed pursuant to 5 U.S.C. 552b(c)(1)]

10:15 a.m.-7 p.m.: Safeguards and Security (Closed)—The Committee will meet with representatives of the Office of Nuclear Regulatory Research and the Office of Nuclear Security and Incident Response to discuss safeguards and security matters. Also, the Committee will discuss a proposed ACRS report on safeguards and security matters.

Thursday, September 11, 2003, Conference Room T-2B3, Two White Flint North, Rockville, Maryland

8:30 a.m.-8:35 a.m.: Opening Remarks by the ACRS Chairman (Open)—The ACRS Chairman will make opening remarks regarding the conduct of the meeting.

8:35 a.m.-10 a.m.: Final Review of the St. Lucie License Renewal Application (Open)—The Committee will hear presentations by and hold discussions with representatives of the NRC staff and Florida Power and Light Company regarding the St. Lucie license renewal application and the associated Final Safety Evaluation Report prepared by the staff.

10:15 a.m.-11:30 a.m.: Draft Final Regulatory Guide DG-1122, “Determining the Technical Adequacy of PRA Results for Risk-Informed Activities” (Open)—The Committee will hear presentations by and hold discussions with representatives of the NRC staff regarding the draft final version of Regulatory Guide DG-1122.

12:30 p.m.-2 p.m.: Technical Assessment and Proposed Recommendations for Resolving GSI-186, “Potential Risk and Consequences of Heavy Load Drops in Nuclear Power Plants” (Open)—The Committee will hear presentations by and hold discussions with representatives of the NRC staff regarding the technical assessment and recommendations proposed by the Office of Nuclear Regulatory Research for resolving GSI-186.

2:15 p.m.-3:45 p.m.: Draft Final Review Standard for Reviewing Core Power Uprate Applications (Open)—The Committee will hear presentations by and hold discussions with representatives of the NRC staff regarding the draft final review standard to be used by the staff for reviewing core power uprate applications.

4 p.m.-5:15 p.m.: Draft Final Revision 3 to Regulatory Guide 1.82 (DG-1107), “Water Sources for Long-Term Recirculation Cooling Following a LOCA” (Open)—The Committee will hear presentations by and hold discussions with representatives of the NRC staff regarding draft final revision 3 to Regulatory Guide 1.82 (DG-1107) including resolution of public comments, and related matters.

5:15 p.m.-6 p.m.: Review of PIRT Process (Open)—The Committee will hear a presentation by Dr. Nourbakhsh, ACRS Senior Fellow, regarding his review of the phenomena identification and ranking table (PIRT) process.

6:15 p.m.-7:30 p.m.: Preparation of ACRS Reports (Open/Closed)—The Committee will discuss proposed ACRS reports on matters considered during this meeting. In addition, the Committee will discuss a proposed ACRS report on safeguards and security matters (Closed).

Friday, September 12, 2003, Conference Room T-2B3, Two White Flint North, Rockville, Maryland

8:30 a.m.-8:35 a.m.: Opening Remarks by the ACRS Chairman (Open)—The ACRS Chairman will make opening remarks regarding the conduct of the meeting.

8:35 a.m.-9:30 a.m.: Draft Final Revision 1 to Regulatory Guide 1.53, “Application of the Single Failure Criterion to Safety Systems” (Open)—The Committee will hear presentations by and hold discussions with representatives of the NRC staff regarding the draft final revision 1 to Regulatory Guide 1.53.

9:30 a.m.-11:15 a.m.: Preparation for Meeting with the NRC Commissioners (Open)—The Committee will discuss proposed topics for discussion during the ACRS meeting with the NRC Commissioners which is scheduled to be held on Wednesday, October 1, 2003, between 9:30 and 11:30 a.m.

11:15 a.m.-11:30 a.m.: Subcommittee Report on Fire Protection Issues (Open)—The Fire Protection Subcommittee Chairman will provide a brief report on matters discussed during the September 9, 2003 meeting.

11:30 a.m.-12:15 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

12:15 p.m.-12:30 p.m.: Reconciliation of ACRS Comments and Recommendations (Open)—The Committee will discuss the responses from the NRC Executive Director for Operations (EDO) to comments and recommendations included in recent ACRS reports and letters. The EDO responses are expected to be made available to the Committee prior to the meeting.

1:30 p.m.-7:30 p.m.: Preparation of ACRS Reports (Open/Closed)—The Committee will discuss proposed ACRS reports on matters considered during this meeting. In addition, the Committee will discuss a proposed ACRS report on safeguards and security (Closed).

Saturday, September 13, 2003, Conference Room T-2B3, Two White Flint North, Rockville, Maryland

8:30 a.m.-1 p.m.: Preparation of ACRS Reports (Open/Closed)—The Committee will continue discussion of the proposed ACRS reports.

1 p.m.-1:15 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director for Technical Support if such rescheduling would result in major inconvenience.

In accordance with subsection 10(d) Public Law 92-463, I have determined that it is necessary to close portions of this meeting noted above to discuss and protect information classified as national security information pursuant to 5 U.S.C. 552b(c)(1).

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., e.t.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service. Individuals or organizations requesting this service will be responsible for telephone line charges and for providing the equipment and facilities that they use to establish the videoteleconferencing link. The availability of videoteleconferencing services is not guaranteed.

Dated: August 18, 2003.
Andrew L. Bates,
Advisory Committee Management Officer.

[FR Doc. 03-21525 Filed 8-21-03; 8:45 am]

BILLING CODE 7590-01-P